ENVIRONMENTAL PROTECTION AGENCY

[EPA-HQ-OAR-2011-0901; FRL-9514-6]

Agency Information Collection Activities; Submission to OMB for Review and Approval; Comment Request; Prevention of Significant Deterioration and Nonattainment New Source Review (Renewal); EPA ICR No. 1230.29

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before May 17, 2012.

ADDRESSES: Submit your comments, referencing Docket ID No. EPA-HQ-OAR-2011-0901, to (1) the EPA online using www.regulations.gov (our preferred method), by email at a-and-r-docket@epa.gov or by mail to: Air and Radiation Docket and Information Center, Mailcode: 28221T, Environmental Protection Agency, 1200 Pennsylvania Ave. NW., Washington, DC 20460, and (2) the OMB by mail to: Office of Information and Regulatory Affairs, Office of Management and Budget (OMB), Attention: Desk Officer for EPA, 725 17th Street NW., Washington, DC 20503.

FOR FURTHER INFORMATION CONTACT: Mr. David Painter, Air Quality Policy Division, Office of Air Quality Planning and Standards, (C504-03), Environmental Protection Agency, Research Triangle Park, North Carolina 27711; telephone number: (919) 541-5515; fax number: (919) 541-5509; email address: painter.david@epa.gov.

SUPPLEMENTARY INFORMATION: The EPA has submitted the following ICR to the OMB for review and approval according to the procedures prescribed in 5 CFR 1320.12. On November 25, 2011 (76 FR 72700), the EPA sought comments on this ICR pursuant to 5 CFR 1320.8(d). The EPA received no comments. Any additional comments on this ICR should be submitted to EPA and OMB within 30 days of this notice.

The EPA has established a public docket for this ICR under Docket ID No. EPA-HQ-OAR-2011-0901, which is available for online viewing at www.regulations.gov, or in person viewing at the Air and Radiation Docket and Information Center in the EPA Docket Center (EPA/DC), EPA West, Room 3334, 1301 Constitution Ave. NW., Washington, DC. The EPA/DC Public Reading Room is open from 8:30 a.m. to 4:30 p.m., Monday through Friday, excluding legal holidays. The telephone number for the Reading Room is 202-566-1744, and the telephone number for the Air Docket is 202-566-1742.

Use the EPA's electronic docket and comment system at www.regulations.gov, to submit or view public comments, access the index listing of the contents of the docket, and to access those documents in the docket that are available electronically. Once in the system, select “docket search,” then key in the docket ID number identified above. Please note that the EPA's policy is that public comments, whether submitted electronically or on paper, will be made available for public viewing at www.regulations.gov as the EPA receives them and without change, unless the comment contains copyrighted material, confidential business information (CBI) or other information whose public disclosure is restricted by statute. For further information about the electronic docket, go to www.regulations.gov.

Title: Prevention of Significant Deterioration and Nonattainment New Source Review (Renewal).

ICR numbers: EPA ICR No. 1230.29, OMB Control No. 2060-0003.

ICR Status: This ICR is scheduled to expire on April 30, 2012. Under OMB regulations, the Agency may continue to conduct or sponsor the collection of information while this submission is pending at the OMB. An agency may not conduct or sponsor, and a person is not required to respond to, a collection of information, unless it displays a currently valid OMB control number. The OMB control numbers for the EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: Part C of Title I of the Clean Air Act (Act) (42 U.S.C. 7401 et seq.)—“Prevention of Significant Deterioration” (PSD), and Part D—“Plan Requirements for Nonattainment Areas,” require all states to adopt preconstruction review programs for new or modified major stationary sources of air pollution. In addition, the provisions of section 110 of the Act include a requirement for states to have a preconstruction review program to manage the emissions from the construction and modification of any stationary source of air pollution to assure that the National Ambient Air Quality Standards (NAAQS) are achieved and maintained. Section 176(c) of the Act requires that all federal actions conform with the state implementation plans (SIPs) to attain and maintain the NAAQS. Depending on the type of action, the federal entities must collect information themselves, hire consultants to collect the information or require applicants/sponsors of the federal action to provide the information.

Implementing regulations for these three programs are promulgated at 40 CFR 51.160 through 51.166; 40 CFR part 51, Appendix S; and 40 CFR 52.21 and 52.24. In order to receive a construction permit for a major new source or major modification, the applicant must conduct the necessary research, perform the appropriate analyses and prepare the permit application with documentation to demonstrate that their project meets all applicable statutory and regulatory “new source review” (NSR) requirements. Specific activities and requirements are listed and described in the Supporting Statement for the ICR.

Reviewing authorities, either state, local or federal, review the permit application and provide for public review of the proposed project and issue the permit based on consideration of all technical factors and public input. The EPA, more broadly, reviews a fraction of the total applications and audits the state and local programs for their effectiveness. Consequently, information prepared and submitted by the source is essential for the source to receive a permit, and for federal, state and local environmental agencies to adequately review the permit application and thereby properly administer and manage the NSR programs.

Since the previous renewal of this ICR, the EPA has filled regulatory voids that existed in Indian country (where state NSR programs do not apply) by promulgating a Part D program and a minor NSR program for Indian country. (The EPA was already implementing a Part C program in Indian country.) The implementing regulations for these programs are at 40 CFR 49.151 through 49.173. The EPA acts as the reviewing authority for these programs.

Information that is collected is handled according to the EPA's policies set forth in title 40, chapter 1, part 2, subpart B—Confidentiality of Business Information (see 40 CFR part 2). See also section 114(c) of the Act.

Burden Statement: The annual public reporting and recordkeeping burden for this collection of information is estimated to average about 49 hours per response. Burden means the total time, effort or financial resources expended by persons to generate, maintain, retain or disclose or provide information to or for a federal agency. This includes the time needed to review instructions; develop, acquire, install and utilize technology and systems for the purposes of collecting, validating and verifying information, processing and maintaining information and disclosing and providing information; adjust the existing ways to comply with any previously applicable instructions and requirements which have subsequently changed; train personnel to be able to respond to a collection of information; search data sources; complete and review the collection of information; and transmit or otherwise disclose the information.

Respondents/Affected Entities: Industrial plants; state and local reviewing authorities.

Estimated Number of Respondents: 87,481, including 87,369 industry sources and 112 state and local reviewing authorities.

Frequency of Response: Responses generally are associated with NSR permit actions, which are required on occasion when facilities wish to construct or modify. In addition, existing minor sources will be required to submit a one-time registration during implementation of the minor NSR program in Indian country. Finally, state and local reviewing authorities are required to submit SIP revisions on occasion when the NSR regulations change.

Estimated Total Annual Hour Burden: 7,934,340 hours.

Estimated Total Annual Cost: $707,226,735, including $694,641,672 in labor costs and $12,585,063 in annualized capital or start-up costs.

Changes in the Estimates: The burden has changed since the previous renewal due in part to an increase in the number of responses and per-permit burden due to the addition of GHGs to the PSD program. In addition, the extension of minor NSR and part D programs to Indian country to fill these regulatory gaps has increased the number of responses and the overall burden. Finally, the burden has been increased by the addition of provisions in the PSD program that will allow full integration of PM2.5.

Also contributing to the increase in burden has been a change in the labor rates. As explained in section 6(b)(i), in order to improve the accuracy of burden estimates, the rates were recalculated using 2011 values for wages.

John Moses,
Director, Collection Strategies Division.

[FR Doc. 2012-9103 Filed 4-16-12; 8:45 am]

BILLING CODE 6560-50-P